DEPARTMENT OF ENERGY

Federal Energy Regulatory Commission

Combined Notice of Filings #1

Take notice that the Commission received the following electric corporate filings:

Docket Numbers: EC18-156-000.

Applicants: American Transmission Systems, Incorporated.

Description: Supplement to September 14, 2018 Application for Authorization of Transaction under Section 203 of the Federal Power Act, et al. of American Transmission Systems, Incorporated.

Filed Date: 10/5/18.

Accession Number: 20181005-5222.

Comments Due: 5 p.m. ET 10/26/18.

Docket Numbers: EC19-5-000.

Applicants: Mid-Atlantic Interstate Transmission, LLC.

Description: Application for Authorization Under Section 203 of the Federal Power Act of Mid-Atlantic Interstate Transmission, LLC.

Filed Date: 10/5/18.

Accession Number: 20181005-5234.

Comments Due: 5 p.m. ET 10/26/18.

Take notice that the Commission received the following exempt wholesale generator filings:

Docket Numbers: EG19-3-000.

Applicants: R-WS Antelope Valley Gen-Tie, LLC.

Description: Notice of Self-Certification of Exempt Wholesale Generator Status of R-WS Antelope Valley Gen-Tie, LLC.

Filed Date: 10/9/18.

Accession Number: 20181009-5116.

Comments Due: 5 p.m. ET 10/30/18.

Docket Numbers: EG19-4-000.

Applicants: Phoebe Energy Project, LLC.

Description: Self-Certification of EWG Status of Phoebe Energy Project, LLC.

Filed Date: 10/9/18.

Accession Number: 20181009-5223.

Comments Due: 5 p.m. ET 10/30/18.

Docket Numbers: EG19-5-000.

Applicants: Terna Energy USA Holding Corporation.

Description: Self-Certification of EG or FC of Terna Energy USA Holding Corporation.

Filed Date: 10/9/18.

Accession Number: 20181009-5230.

Comments Due: 5 p.m. ET 10/30/18.

Take notice that the Commission received the following electric rate filings:

Docket Numbers: ER14-1348-005; ER14-1349-005; ER10-3057-003; ER10-1810-002; ER10-2950-012.

Applicants: The Dow Chemical Company, Union Carbide Corporation, Dow Pipeline Company, E. I. du Pont de Nemours and Company, Spruance Genco, LLC.

Description: Supplement to June 29, 2018 Triennial Market Power Analysis for the Central Region of The Dow Chemical Company, et al.

Filed Date: 10/4/18.

Accession Number: 20181004-5054.

Comments Due: 5 p.m. ET 10/25/18.

Docket Numbers: ER16-2522-002.

Applicants: Southwest Power Pool, Inc.

Description: Tariff Amendment: 3243 City of Piggott, AR Municipal Light, Water and Sewer to be effective 8/1/2016.

Filed Date: 10/9/18.

Accession Number: 20181009-5142.

Comments Due: 5 p.m. ET 10/30/18.

Docket Numbers: ER16-2523-002.

Applicants: Southwest Power Pool, Inc.

Description: Tariff Amendment: 3244 City of Malden ? Board of Public Works to be effective 8/1/2016.

Filed Date: 10/9/18.

Accession Number: 20181009-5165.

Comments Due: 5 p.m. ET 10/30/18.

Docket Numbers: ER18-86-002.

Applicants: PJM Interconnection, L.L.C.

Description: Compliance filing: Compliance Filing re Discontinuing Netting Internal Bilateral Trans for Uplift to be effective 11/1/2018.

Filed Date: 10/9/18.

Accession Number: 20181009-5205.

Comments Due: 5 p.m. ET 10/30/18.

Docket Numbers: ER18-1970-001.

Applicants: Midcontinent Independent System Operator, Inc., Otter Tail Power Company.

Description: Compliance filing: 2018-10-09_SA 3080 Compliance OTP-East River Sub 1st Revised T-T (Blair) to be effective 9/17/2018.

Filed Date: 10/9/18.

Accession Number: 20181009-5207.

Comments Due: 5 p.m. ET 10/30/18.

Docket Numbers: ER18-2264-001.

Applicants: Macquarie Energy Trading LLC.

Description: Tariff Amendment: Supplement to Petition for Market-Based Rate Authorization to be effective 10/21/2018.

Filed Date: 10/9/18.

Accession Number: 20181009-5204.

Comments Due: 5 p.m. ET 10/30/18.

Docket Numbers: ER18-2325-001.

Applicants: Sunbury Generation LP.

Description: Tariff Amendment: Resubmission of Addendum to Market-Based Rate Notice of Change in Status to be effective 10/9/2018.

Filed Date: 10/9/18.

Accession Number: 20181009-5009.

Comments Due: 5 p.m. ET 10/30/18.

Docket Numbers: ER18-2448-002.

Applicants: Robindale Retail Power Services, LLC.

Description: Tariff Amendment: Request to Amend Filing to Withdraw and Administratively Reject Addendum to be effective 9/29/2018.

Filed Date: 10/9/18.

Accession Number: 20181009-5006.

Comments Due: 5 p.m. ET 10/30/18.

Docket Numbers: ER19-62-000.

Applicants: OneEnergy Baker Point Solar, LLC.

Description: Baseline eTariff Filing: Initial Rate Schedule to be effective 12/1/2018.

Filed Date: 10/5/18.

Accession Number: 20181005-5201.

Comments Due: 5 p.m. ET 10/26/18.

Docket Numbers: ER19-64-000.

Applicants: ISO New England Inc., Emera Maine.

Description: § 205(d) Rate Filing: Changes to ISO New England OATT Schedule 21-EM to be effective 12/9/2018.

Filed Date: 10/9/18.

Accession Number: 20181009-5144.

Comments Due: 5 p.m. ET 10/30/18.

Docket Numbers: ER19-65-000.

Applicants: PJM Interconnection, L.L.C.

Description: § 205(d) Rate Filing: Amendment to ISA SA No. 4451; Queue No. AA1-063A to be effective 4/5/2016.

Filed Date: 10/9/18.

Accession Number: 20181009-5206.

Comments Due: 5 p.m. ET 10/30/18.

Docket Numbers: ER19-66-000.

Applicants: Conemaugh Power Pass-Through Holders LLC.

Description: Baseline eTariff Filing: Market-Based Rate Tariff Application to be effective 10/9/2018.

Filed Date: 10/9/18.

Accession Number: 20181009-5211.

Comments Due: 5 p.m. ET 10/30/18.

Docket Numbers: ER19-67-000.

Applicants: NRG REMA LLC.

Description: § 205(d) Rate Filing: Reactive Service Rate Schedule Filing and Request for Waiver & Expedited Action to be effective 12/31/9998.

Filed Date: 10/9/18.

Accession Number: 20181009-5217.

Comments Due: 5 p.m. ET 10/30/18.

Docket Numbers: ER19-68-000.

Applicants: Midcontinent Independent System Operator, Inc.

Description: § 205(d) Rate Filing: 2018-10-09_SA 3169 Crittenden Wind—EAI GIA (J662) to be effective 9/24/2018.

Filed Date: 10/9/18.

Accession Number: 20181009-5218.

Comments Due: 5 p.m. ET 10/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2018.
Nathaniel J. Davis, Sr.,
Deputy Secretary.

[FR Doc. 2018-22350 Filed 10-12-18; 8:45 am]

BILLING CODE 6717-01-P